DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Project 25 Compliance Assessment Program Laboratory Application.

OMB Control Number: 0693-0053.

Form Number(s): None.

Type of Request: Regular submission (extension of a currently approved information collection).

Burden Hours: 10.

Number of Respondents: 10.

Average Hours Per Response: 1.

Needs and Uses: The September 11, 2001 attacks and Hurricane Katrina made apparent the need for public safety radio systems to interoperate, regardless of who manufactured the equipment. In response, and per Congressional direction, Department of Homeland Security and NIST developed the Project 25 (P25) CAP to improve public safety confidence in purchasing land mobile radio (LMR) equipment built to P25 LMR standards, especially those P25 standards related to improving interoperability between different manufacturer's radio systems. A key part of the program involves NIST (Office of Law Enforcement Standards-OLES) experts assessing participating laboratories to determine that they have the requisite technical competence and resources needed to test P25 equipment. To perform these assessments, and continue the program, NIST needs to be able to collect essential information from laboratories interested in participating in the P25 CAP program.

Affected Public: Business or other for-profit organizations; not-for-profit institutions; Federal government; and state, local, or tribal government.

Frequency: Annually.

Respondent's Obligation: Required to obtain or retain benefits.

OMB Desk Officer: Jasmeet Seehra, (202) 395-3123.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to, OMB Desk Officer, Jasmeet Seehra, FAX Number (202) 395-5167, or Jasmeet_K._Seehra@omb.eop.gov).

Dated: October 5, 2011.
Gwellnar Banks,
Management Analyst, Office of the Chief Information Officer.

[FR Doc. 2011-26273 Filed 10-11-11; 8:45 am]

BILLING CODE 3510-13-P